DEPARTMENT OF STATE

[Public Notice: 12850]

Notice of 2024 Department of State Sanctions Actions Pursuant to the Executive Order Regarding Blocking Property of Weapons of Mass Destruction Proliferators and Their Supporters

SUMMARY: The Department of State is publishing the names of one or more persons that were placed on the Department of Treasury's List of Specially Designated Nationals and Blocked Persons (SDN List) administered by the Office of Foreign Asset Control (OFAC) in 2024 based on the Department of State's determination, in consultation with other departments, as appropriate, that one or more applicable legal criteria of the Executive Order regarding blocking property of weapons of mass destruction proliferators and their supporters were satisfied. All property and interests in property subject to U.S. jurisdiction of these persons are blocked, and U.S. persons are generally prohibited from engaging in transactions with them.

DATES: These actions were issued on September 12, 2024 and December 18, 2024, respectively. See SUPPLEMENTARY INFORMATION section for applicable date(s) in 2024.

FOR FURTHER INFORMATION CONTACT: Office of Counterproliferation Initiatives, Bureau of Arms Control and Nonproliferation, Department of State, Washington, DC 20520, tel.: (202) 647 7594, email: ACN_Sanctions@state.gov.

SUPPLEMENTARY INFORMATION:

Electronic Availability

The SDN List and additional information concerning OFAC sanctions programs are available on OFAC's website (https://www.treasury.gov/ ofac). The announcements for these actions are available on the Department of State's website (https://2021-2025.state.gov/united-states-continues-to-impose-sanctions-on-suppliers-to-pakistans-ballistic-missile-program/; and https://2021-2025.state.gov/u-s-announces-additional-sanctions-on-entities-contributing-to-pakistans-ballistic-missile-program/).

Notice of Department of State Actions

On September 12, 2024, the Department of State, in consultation with other departments, as appropriate, determined that the property and interests in property subject to U.S. jurisdiction of the following persons are blocked under the relevant sanctions authority listed below.

Entity

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by Pakistan, a foreign country of proliferation concern.

Notice of Department of State Actions

On December 18, 2024, the Department of State, in consultation with other departments, as appropriate, determined that the property and interests in property subject to U.S. jurisdiction of the following persons are blocked under the relevant sanctions authority listed below.

Entities

1. AFFILIATES INTERNATIONAL (a.k.a. MS AFFILIATES INTERNATIONAL), 9 Timber Pond, Keamari P.O. Box 13139, Karachi, Pakistan; 9/A, Timber Pound Kemari, Karachi, Pakistan; Organization Established Date 27 Oct 1995; Tax ID No. 0287901 (Pakistan) [NPWMD].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by Pakistan, a foreign country of proliferation concern.

2. AKHTAR AND SONS PRIVATE LIMITED (a.k.a. AKHTAR AND SONS PVT LTD.; a.k.a. “AKHTAR AND SONS”), 10th Floor Emerald Tower, Main Clifton Road, Karachi 74000, Pakistan; Office # 1003, 10th Floor, Emerald Tower, G-19, Block 5, Do Talwar, Main Clifton Road, South Saddar Town, Karachi, Pakistan; 10th Floor, Emerald Tower, Main Clifton Road, Karachi 75600, Pakistan; Office # 206, Cotton Exchange Building, I.I. Chundrigar Road, South Saddar Town, Karachi, Pakistan; Organization Established Date 09 Nov 1995; Tax ID No. 0686371 (Pakistan) [NPWMD].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by Pakistan, a foreign country of proliferation concern.

3. NATIONAL DEVELOPMENT COMPLEX (a.k.a. NATIONAL DEFENSE COMPLEX; a.k.a. NATIONAL DEVELOPMENT CENTRE; a.k.a. “NDC”), Plot No. 94, NESCOM Complex (NDC), H-11/4, Islamabad, Islamabad Urban, Pakistan; Fateh Jang, Punjab, Rawalpindi, Pakistan; P.O Box 2216, Islamabad, Pakistan; Target Type State-Owned Enterprise; Tax ID No. 9010629 (Pakistan) [NPWMD].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by Pakistan, a foreign country of proliferation concern.

4. ROCKSIDE ENTERPRISE (a.k.a. ROCKSIDE TRADING), House No. 44/1, Street No. 17, Khayaban-E-Mujahid, Phase-5 DHA, Karachi, Pakistan; 10th Floor, Emerald Tower, Main Clifton Road, Karachi 75600, Pakistan; Street 17, Karachi, Sindh, Pakistan; Tax ID No. 1295859 (Pakistan) [NPWMD].

Designated pursuant to section 1(a)(ii) of E.O. 13382 for having engaged, or attempted to engage, in activities or transactions that have materially contributed to, or pose a risk of materially contributing to, the proliferation of weapons of mass destruction or their means of delivery (including missiles capable of delivering such weapons), including any efforts to manufacture, acquire, possess, develop, transport, transfer or use such items, by Pakistan, a foreign country of proliferation concern.

Renee P. Sonderman,
Acting Deputy Assistant Secretary, Bureau of Arms Control and Nonproliferation, Department of State.

[FR Doc. 2025-19260 Filed 10-1-25; 8:45 am]

BILLING CODE 4710-27-P